NATIONAL SCIENCE FOUNDATION

Proposal Review Panel for Computing Communication Foundations; Notice of Meeting

In accordance with the Federal Advisory Committee Act (Pub. L. 92-463, as amended), the National Science Foundation announces the following meeting:

Name: Site Visit, Proposal Panel Review for Expeditions in Computing Program (#1192).

Date/Time: December 4, 2012, 7:00 p.m.-9:00 p.m.; December 5, 2012, 8:00 a.m.-8:00 p.m.; December 6, 2012, 8:30 a.m.-3:00 p.m.

Place: Georgia Institute of Technology, Atlanta, GA.

Type of Meeting: Partial Closed.

Contact Person: Ephraim Glinert, National Science Foundation, 4201 Wilson Boulevard, Room 1125, Arlington, VA 22230. Telephone: (703) 292-8930.

Purpose of Meeting: To assess the progress of the EIC Award, “Collaborative Research: Computational Behavioral Science: Modeling, Analysis, and Visualization of Social and Communicative Behavior”, and to provide advise and recommendations concerning further NSF support for the Center.

Agenda

Tuesday, December 4, 2012

7:00 p.m. to 9:00 p.m.: Closed. Site Team and NSF Staff meets to discuss Site Visit materials, review process and charge.

Wednesday, December 5, 2012

8:00 a.m. to 1:00 p.m.: Open. Presentations by Awardee Institution, faculty staff and students, to Site Team and NSF Staff. Discussions and question and answer sessions.

1:00 p.m.-8:00 p.m.: Closed. Draft report on education and research activities.

Thursday, December 6, 2012

8:30 a.m.-noon: Open. Response presentations by Site Team and NSF Staff Awardee Institution faculty staff to. Discussions and question and answer sessions.

Noon to 3:00 p.m.: Closed. Complete written site visit report with preliminary recommendations.

Reason for Closing: The proposals being reviewed include information of a proprietary or confidential nature, including technical information; financial data, such as salaries; and personal information concerning individuals associated with the proposals. These matters are exempt under 5 U.S.C. 552b(c), (4) and (6) of the Government in the Sunshine Act.

Dated: October 23, 2012.
Susanne Bolton,
Committee Management Officer.

[FR Doc. 2012-26363 Filed 10-25-12; 8:45 am]

BILLING CODE 7555-01-P